DEPARTMENT OF AGRICULTURE

Animal and Plant Health Inspection Service

[Docket No. APHIS-2019-0062]

Notice of Availability of a Pest Risk Analysis for the Importation of Fresh Carrots From the Republic of Korea Into the United States

AGENCY: Animal and Plant Health Inspection Service, USDA.

ACTION: Notice of availability.

SUMMARY: We are advising the public that we have prepared a pest risk analysis that evaluates the risks associated with importation of fresh carrots from the Republic of Korea into the United States. Based on the analysis, we have determined that the application of one or more phytosanitary measures will be sufficient to mitigate the risks of introducing or disseminating plant pests or noxious weeds via the importation of fresh carrots from the Republic of Korea. We are making the pest risk analysis available to the public for review and comment.

DATES: We will consider all comments that we receive on or before January 13, 2020.

ADDRESSES: You may submit comments by either of the following methods:

• Federal eRulemaking Portal: Go to http://www.regulations.gov/#!docketDetail;D=APHIS-2019-0062.

• Postal Mail/Commercial Delivery: Send your comment to Docket No. APHIS-2019-0062, Regulatory Analysis and Development, PPD, APHIS, Station 3A-03.8, 4700 River Road, Unit 118, Riverdale, MD 20737-1238.

Supporting documents and any comments we receive on this docket may be viewed at http://www.regulations.gov/#!docketDetail;D=APHIS-2019-0062 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Carol Kreger, Regulatory Policy Specialist, Regulatory Coordination and Compliance, PPQ, APHIS, 4700 River Road, Unit 133, Riverdale, MD 20737; (301) 851-2356.

SUPPLEMENTARY INFORMATION: Under the regulations in “Subpart L—Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 contains a performance-based process for approving the importation of certain fruits and vegetables that, based on the findings of a pest risk analysis, can be safely imported subject to one or more of the five designated phytosanitary measures listed in paragraph (b) of that section.

APHIS received a request from the national plant protection organization (NPPO) of the Republic of Korea to allow the importation of fresh carrots into the United States. As part of our evaluation of the Republic of Korea's request, we have prepared a pest risk assessment (PRA) to identify pests of quarantine significance that could follow the pathway of importation of fresh carrots into the United States from the Republic of Korea. The PRA identifies two quarantine pests that could follow the pathway: Helicobasidium mompa and Sclerotinia nivalis, both phytopathogenic fungi. Based on the PRA, we prepared a risk management document (RMD) to identify phytosanitary measures that could be applied to the fresh carrots to mitigate the pest risk.

We have concluded that fresh carrots can be safely imported from the Republic of Korea into the United States using one or more of the five designated phytosanitary measures listed in § 319.56-4(b). The NPPO of the Republic of Korea would have to enter into an operational workplan with APHIS that spells out the daily procedures the NPPO will take to implement the measures identified in the RMD. These measures are summarized below:

• Carrots must be commercially produced and may be imported in commercial consignments only.

• Carrots must be grown in places of production registered and packed in packinghouses registered by the NPPO of the Republic of Korea as part of an export program to the United States.

• The NPPO of the Republic of Korea must review and maintain all forms and documents related to export program activities in registered places of production and packinghouses for at least 1 year and make them available to APHIS upon request.

• If the NPPO of the Republic of Korea finds that a place of production or packinghouse is not complying with the requirements of the systems approach, no carrot from the place of production or packinghouse will be eligible for export to the United States until APHIS and the NPPO of the Republic of Korea conduct an investigation and appropriate remedial actions have been implemented.

• Carrots must originate from a place of production that was inspected for signs of fungi of quarantine concern prior to harvest and found free of disease symptoms or must be treated with a broad-spectrum fungicide during the growing season, inspected prior to harvest, and found free of fungi of quarantine concern.

• Carrot taproots must be washed and disinfected, and free of soil and green tops.

• A biometric sample of carrot taproots (jointly agreed upon by APHIS and the NPPO) must be inspected in the Republic of Korea by the NPPO of the Republic of Korea following any post-harvest processing. The biometric sample must be visually inspected for the quarantine pests Helicobasidium mompa and Sclerotinia nivalis. If any quarantine fungi is found, the entire lot of carrots is prohibited from import into the United States. APHIS may prohibit the importation into the United States of carrots from the places of production for the season.

• Each consignment of carrots must be accompanied by a phytosanitary certificate issued by the NPPO of the Republic of Korea with an additional declaration (AD) stating that the consignment was produced and prepared for export in accordance with the operational workplan, and inspected and found free of pests of quarantine concern.

• Carrots are subject to inspection at the port of entry into the United States.

• Carrots presented for inspection at the port of entry to the United States must be identified to specify the place of production in which the carrots were produced, and the packinghouse(s), in which the carrots were processed and packed. This identification must be maintained until the carrots are released from the port of first arrival into the United States.

Each of the pest risk mitigation measures that would be required, along with evidence of their efficacy in removing pests of concern from the pathway, are described in detail in the RMD.

Therefore, in accordance with § 319.56-4(c)(3), we are announcing the availability of our PRA and RMD for public review and comment. Those documents, as well as a description of the economic considerations associated with the importation of fresh carrots from the Republic of Korea, may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After reviewing any comments we receive, we will announce our decision regarding the import status of fresh carrots from the Republic of Korea in a subsequent notice. If the overall conclusions of our analysis and the Administrator's determination of risk remain unchanged following our consideration of the comments, then we will authorize the importation of fresh carrots from the Republic of Korea into the United States subject to the requirements specified in the RMD.

Authority: 7 U.S.C. 1633, 7701-7772, and 7781-7786; 21 U.S.C. 136 and 136a; 7 CFR 2.22, 2.80, and 371.3.

Done in Washington, DC, this 4th day of November 2019.
Kevin Shea,
Administrator, Animal and Plant Health Inspection Service.

[FR Doc. 2019-24535 Filed 11-8-19; 8:45 am]

BILLING CODE 3410-34-P